DEPARTMENT OF LABOR

Employment and Training Administration

[TA-W-38,725]

Ametek/Dixson Grand Junction, CO; Including Employees of Ametek/Dixson, Grand Junction, CO; Located in Sellersville, PA; Amended Certification Regarding Eligibility To Apply for Worker Adjustment Assistance

In accordance with Section 223 of the Trade Act of 1974 (19 U.S.C. 2273) the Department of Labor issued a Certification of Eligibility to Apply for Worker Adjustment Assistance on April 17, 2001, applicable to workers of Ametek/Dixson, Grand Junction, Colorado. The notice was published in the Federal Register on May 3, 2001 (66 FR 22262).

At the request of the company, the Department reviewed the certification for workers of the subject firm. New information shows that worker separations occurred involving two employees of the Grand Junction, Colorado facility of Ametek/Dixson, located in Sellersvillle, Pennsylvania. These employees are engaged in employment related to the production of instrumention for trucks at the Grand Junction, Colorado location of the subject firm.

Based on these findings, the Department is amending this certification to include employees of the Ametek/Dixson, Grand Junction, Colorado facility located in Sellersville, Pennsylvania.

The intent of the Department's certification is to include all workers of Ametek/Dixson adversely affected by increased imports.

The amended notice applicable to TA-W-38,725 is hereby issued as follows:

All workers of Ametek/Dixson, Grand Junction, Colorado including workers of the Grand Junction, Colorado facility located in Sellersville, Pennsylvania, who became totally or partially separated from employment on or after February 9, 2000, through April 17, 2003, are eligible to apply for adjustment assistance under Section 223 of the Trade Act of 1974.

Signed at Washington, DC, this 5th day of September, 2001.
Edward A. Tomchick,
Director, Divisiion of Trade Adjustment Assistance.

[FR Doc. 01-25466 Filed 10-10-01; 8:45 am]

BILLING CODE 4510-30-M